DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of June 18, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Douglas County, Nevada and Incorporated Areas
Docket No.: FEMA-B-2410
Unincorporated Areas of Douglas County | Minden Inn—Douglas County Offices, 1594 Esmeralda Avenue, Minden, NV 89423.
Washoe Tribe of Nevada and California | Washoe Tribal Administrative Offices, 919 U.S. Highway 395 N, Gardnerville, NV 89410.
Tompkins County, New York (All Jurisdictions)
Docket No.: FEMA-B-2384
City of Ithaca | City Hall, 108 East Green Street, 4th Floor, Ithaca, NY 14850.
Town of Caroline | Caroline Town Offices, 2668 Slaterville Road, Slaterville Springs, NY 14881.
Town of Danby | Danby Town Hall, 1830 Danby Road, Ithaca, NY 14850.
Town of Dryden | Town Hall, 93 East Main Street, Dryden, NY 13053.
Town of Enfield | Enfield Town Hall, 168 Enfield Main Road, Ithaca, NY 14850.
Town of Groton | Town Hall, 101 Conger Boulevard, Groton, NY 13073.
Town of Ithaca | Town Hall, 215 North Tioga Street, Ithaca, NY 14850.
Town of Lansing | Town Hall, 29 Auburn Road, Lansing, NY 14882.
Town of Newfield | Town Hall, 166 Main Street, Newfield, NY 14867.
Town of Ulysses | Ulysses Town Hall, 10 Elm Street, Trumansburg, NY 14886.
Village of Dryden | Town Hall, 93 East Main Street, Dryden, NY 13053.
Village of Freeville | Village Office, 5 Factory Street, Freeville, NY 13068.
Village of Groton | Village Office, 143 East Cortland Street, Groton, NY 13073.
Village of Lansing | Lansing Village Offices, 2405 North Triphammer Road, Ithaca, NY 14850.
Village of Trumansburg | Village Offices, 56 East Main Street, Trumansburg, NY 14886.
Yates County, New York (All Jurisdictions)
Docket No.: FEMA-B-2392
Town of Barrington | Barrington Town Hall, 4424 Bath Road, Penn Yan, NY 14527.
Town of Benton | Benton Town Hall, 1000 Route 14A, Penn Yan, NY 14527.
Town of Italy | Italy Town Hall, 6060 Italy Valley Road, Naples, NY 14512.
Town of Jerusalem | Jerusalem Town Hall, 3816 Italy Hill Road, Branchport, NY 14418.
Town of Middlesex | Town Hall, 1216 Route 245, Middlesex, NY 14507.
Town of Milo | Milo Town Hall, 137 Main Street, Penn Yan, NY 14527.
Town of Potter | Potter Town Hall, 1226 Phelps Road, Middlesex, NY 14507.
Town of Starkey | Starkey Town Hall, 40 Seneca Street, Dundee, NY 14837.
Town of Torrey | Torrey Town Building, 56 Geneva Street, Dresden, NY 14441.
Village of Dresden | Village Office, 3 Firehouse Avenue, Dresden, NY 14441.
Village of Dundee | Code Officer's Office, 12 Union Street, Dundee, NY 14837.
Village of Penn Yan | Municipal Building, 111 Elm Street, Penn Yan, NY 14527.
Dickey County, North Dakota and Incorporated Areas
Docket No.: FEMA-B-2377
City of Ludden | City Hall, 106 3rd Avenue, Ludden, ND 58474.
City of Oakes | City Hall, 124 South 5th Street, Oakes, ND 58474.
Unincorporated Areas of Dickey County | Dickey County Courthouse, 309 2nd Street N, Ellendale, ND 58436.
LaMoure County, North Dakota and Incorporated Areas
Docket No.: FEMA-B-2377
City of Dickey | City Hall, 304 Main Street, Dickey, ND 58431.
City of Edgeley | City Hall, 519 Main Street, Edgeley, ND 58433.
City of LaMoure | City Hall, 27 Center Avenue W, LaMoure, ND 58458.
City of Marion | City Hall, 303 Main Avenue, Marion, ND 58466.
Township of Grand Rapids | Grand Rapids Township Hall, 6836 99 Avenue SE, LaMoure, ND 58458.
Unincorporated Areas of LaMoure County | LaMoure County Courthouse, 202 4th Avenue NE, LaMoure, ND 58458.
Stutsman County, North Dakota and Incorporated Areas
Docket No.: FEMA-B-2377
City of Jamestown | City Hall, 102 3rd Avenue SE, Jamestown, ND 58401.
City of Montpelier | City Hall, 4945 87th Avenue SE, Montpelier, ND 58472.
Unincorporated Areas of Stutsman County | Stutsman County Courthouse, 511 2nd Avenue SE, Jamestown, ND 58401.
Georgetown County, South Carolina and Incorporated Areas
Docket No.: FEMA-B-2409
Unincorporated Areas of Georgetown County | Georgetown County Building Department, 129 Screven Street, Room 249, Georgetown, SC 29440.

[FR Doc. 2025-03898 Filed 3-11-25; 8:45 am]

BILLING CODE 9110-12-P